DEPARTMENT OF ENERGY

Western Area Power Administration

Dakotas Wind Transmission Study

AGENCY: Western Area Power Administration, DOE.

ACTION: Notice of final Study Scope.

SUMMARY: Notice is given to interested parties of the final Study Scope for performing studies associated with the Dakotas Wind Transmission Study (DWTS). The DWTS involves transmission studies on placing of 500 megawatts (MW) of wind power in the Dakotas. Public comments were considered prior to finalizing the Study Scope.

DATES: The Study will begin October 7, 2004.

ADDRESSES: Robert J. Harris, Regional Manager, Upper Great Plains Region, Western Area Power Administration, 2900 4th Avenue North, Billings, MT 59101-1266, e-mail UGPDakotasWindTS@wapa.gov.

FOR FURTHER INFORMATION CONTACT: Mr. Robert Harris, Regional Manager, Upper Great Plains Region, Western Area Power Administration, Box 35800, Billings, MT 59107-5800, telephone (406) 247-7405; or Mr. C. Sam Miller, Project Manager, Upper Great Plains Region, Western Area Power Administration, P. O. Box 35800, Billings, MT 59107-5800, telephone (406) 247-7466, e-mail CSmiller@wapa.gov.

SUPPLEMENTARY INFORMATION: In 2003, Congress passed legislation that included funding for the Western Area Power Administration (Western) to perform “a transmission study on the placement of 500 megawatt[s] [of] wind energy in North Dakota and South Dakota.” (Energy and Water Development Appropriations Act, 2004)

The Dakotas lead the nation in wind resources and have the potential to generate more than 100 times their current use of electricity. Wind power in the Dakotas currently totals 110 MW, producing about 2½ percent of the electric energy consumed in the two states.

The Dakotas are already an exporting region with total generation of electricity more than twice consumption. Exports on the region's transmission system are limited by both stability (transient and voltage) and thermal loading.

A number of wind energy transmission studies in the Dakotas have been completed, for both interconnection and delivery. Most notable is Western's “Montana-Dakotas Transmission Scope” completed in 2002, http://www.wapa.gov/ugp/study. This study made significant progress in highlighting key wind-related transmission issues. Additional investigations are building on the results of this work. Several new studies are currently underway.

In late February 2004, Western requested public comments to help develop the scope of the DWTS. Announcements were made through news coverage and mailings to interested groups. Comments were requested on study objectives, outcomes, and methods. In response, Western received 70 comments from stakeholders, landowners, individual citizens, elected officials, and utilities. All were carefully considered.

The draft Study Scope was published in the Federal Register on May 20, 2004. Western held public meetings on June 15, 2004, at Pierre, SD, and on June 16, 2004, at Bismarck, ND. The meeting objective was to provide an informational discussion and presentation, and accept formal public comments. Formal written comments were accepted through June 21, 2004. A final Study Scope was developed based on the public comments received.

Comments Raised During the Development of this Final Study Scope

Participants in the public process raised numerous comments about the proposed draft Study Scope. Comments and Western's responses are summarized below.

Study Process

Comment: Please elaborate on the study process.

Response: HDR Engineering, Inc. (HDR), an engineering consulting firm, has been contracted to perform the study. HDR will issue a Request for Proposal seeking a firm(s) with the technical expertise required to perform each task of the Study Scope.

Comment: Would wind data and other information from studies currently underway be useful to the DWTS?

Response: The extent to which information/data from existing studies and data bases is useful to the DWTS will be evaluated during the study period.

Comment: Will the study progress be posted on Western's Web site?

Response: Yes, Western will post study status reports at regular intervals at http://www.wapa.gov/ugp/study/DakotasWind.

Comment: Is new transmission line construction being considered in this study?

Response: Actual construction activities are not being undertaken in this study. However, transmission system constraints will be identified and solutions will be evaluated.

Comment: What is the total new generation being considered in this study?

Response: As specified in the legislation that established funding for the study, 500 MW of wind energy in North Dakota and South Dakota will be studied.

Comment: Will the final Study Scope examine firm delivery as well as non-firm?

Response: The final Study Scope Tasks 3 and 4 will focus on firm delivery; Task 1 focuses on non-firm delivery.

Comment: Will outage conditions be evaluated at the single contingency level?

Response: Yes. Study Scope Tasks 3 and 4 will be done following conventional North American Electric Reliability Council (NERC) guidelines. Study authors will coordinate closely with current Mid-Continent Area Power Pool (MAPP) models.

Comment: Recommend that Western take a pragmatic and cooperative approach to resolving real project issues in the early stages to make the study a success. Further, recommend Western weigh and evaluate all possible alternatives and be open to new and creative solutions and challenges identified in the study.

Response: Western will use good utility practice in performing the study.

Comment: Recommend Western identify available and practical alternatives for use of the transmission system and develop detailed system and economic data to enhance the transmission system.

Response: The study will provide empirical transmission system data for public use to aid in making business decisions involving wind development in the Dakotas.

Comment: We support Western's proposed concept to further involve the public through technical expert review during the study process.

Response: Western will allow review and comment on key assumptions, methods, models, and preliminary results for the DWTS. Informal meetings will be held so that technical representatives of key stakeholders will be able to participate along with technical representatives of affected utilities, state regulators, the MAPP, Midwest Independent System Operator (MISO), and the National Renewable Energy Laboratory (NREL). Technical representatives would have an engineering background and demonstrate technical expertise in transmission system analysis or wind power development. Participants at the meetings will not be compensated or reimbursed for expenses. Western anticipates up to three meetings in Billings, Montana, during the course of the study. Notice of these meetings will be posted on Western's web page.

Comment: Recommend the Study Scope remain flexible and take into consideration emerging projects.

Response: The final Study Scope will be flexible and consider relevant and applicable emerging projects within the defined wind generation zones.

Comment: Request this process be regarded as a flexible, interactive process where the study can appropriately reflect market and project development advances, especially in consideration of the large potential capital commitments by wind developers to move forward with preliminary siting work.

Response: The Study Scope will be flexible and an interactive process. The study will focus on transmission issues related to placing 500 MW of wind power in North Dakota and South Dakota; consideration of market and policy issues are outside the scope of this study. Consideration of load regions will be considered. This higher level planning study is not intended to replace interconnection and transmission service study requirements for specific projects. Study results should aid wind developers in making business decisions involving wind development in the Dakotas.

Comment: Request specific study locations be included in Task 4.

Response: The DWTS is a higher level planning study and is not intended to replace interconnection and transmission service study requirements for specific projects. Western formulated the Study Scope to balance the many interests and views of the region's stakeholders rather than pursue site-specific studies which benefit a limited few individuals or organizations.

Comment: Request clarification for the selection of the four “most favorable” wind generation zones for evaluation in Task 4.

Response: Selection of the “four most favorable interconnection zones in Task 3” for evaluation in Task 4 will be based upon technical, electrical criteria as outlined by NERC and MAPP guidelines as well as good utility practice.

Comment: Recommend Western regard the selection of “most favorable” not as an endorsement or siting commitment decision, but rather as dynamic modeling examples of potential favorable regions in which wind power could be sited.

Response: Selection of the “most favorable interconnection zones” for evaluation in Task 4 will be based upon technical, electrical criteria as outlined by NERC and MAPP guidelines as well as good utility practice. Western will not be endorsing any siting location in the technical study. The study is a higher level planning study and is not intended to replace interconnection and transmission service study requirements for specific projects.

Comment: We support the three key corridors defined in Study Scope Task 1 and request new transmission lines from north and south of Pierre, SD, also be considered in this task.

Response: The objective of Study Scope Task 1 is to examine the historical and projected usage patterns on the existing transmission lines in the corridors defined in the final Study Scope, compare these patterns to wind generation patterns, and assess the opportunity to deliver non-firm wind energy on these existing transmission lines. New transmission lines will be considered in Tasks 3 and 4.

Comment: Support Study Scope Task 2 as written.

Response: Western has no plans to change the language for Task 2.

Comment: How will the wind generation profiles be developed?

Response: Western will evaluate and develop power production profiles of the Dakotas wind generation using actual historical data and statistically representative wind profiles (several years of historical data normalized to several decades of climate data). Western will coordinate with the NREL to identify the representative wind power production time series and develop the wind models.

Comment: What is the current limit for the North Dakota export boundary?

Response: The simultaneous limit is 1950 MW.

Comment: Will the DWTS affect the currently underutilized generators at Underwood?

Response: As directed by the legislation which provided the DWTS funding, the DWTS is focused on transmission for 500 MW of wind generation and will not examine the contractual utilization of generators at Underwood.

Comment: Will the four generation levels only be studied independently at the seven wind generation zones or will there be a case with simultaneous generation at multiple zones?

Response: Study of simultaneous generation at multiple zones should be possible at the 50 MW level of new wind per zone and will be incorporated into the Study Scope.

Comment: Is there an assurance of development of wind generation in the selected wind generation zones?

Response: No, there is not. The DWTS is a high-level planning study focused solely on technical transmission issues related to new wind power development.

Comment: What is the maximum output per turbine for wind generators?

Response: Wind turbines recently installed in North Dakota and South Dakota are 1.5 MW turbines.

Comment: Will transmission loading curves be available to the public? Will new coal generation and coal-wind integration be considered in this study?

Response: All results of the DWTS will be available to the public at the completion of the study. New coal generation and coal-wind integration are outside the scope of the enabling legislation and outside the scope of this process.

Comment: Has Western explored more diversification with renewable energy in future planning of the transmission system or the impact to economic development in rural areas?

Response: These issues are outside the scope of the DWTS.

Tribal Issues

Comment: What is the government-to-government pathway for participation of tribal governments to get tribal needs known and addressed in the study?

Response: The DWTS is a higher level planning study focused on technical transmission issues related to new wind power development and does not include policy or regulatory issues. Western pursued a public process in developing and formulating a Study Scope which balances the many diverse interests and views of the region's stakeholders, tribes, governments, landowners, wind developers, and others rather than pursue site-specific studies. Specific project needs are addressed with interconnection and transmission service studies that are outside the scope of this higher level study.

Comment: Request direct consultation with tribal governments so as to have input into the study process and for equal consideration given to non-queued proposed tribal projects.

Response: Western supports the Department of Energy's American Indian Policy, which stresses the need for a government-to-government, trust-based relationship. Western intends to continue its practice of consulting with tribal governments so that tribal rights and concerns are considered prior to any action being taken which affects the tribes. Group meetings have been held to discuss the Study Scope and process with stakeholder groups, landowners, tribes, government officials, and interested parties. It is not the intent of this study to penalize or provide an advantage to proposed projects, queued or non-queued.

Comment: Indian Tribes in the Dakotas have been disproportionately impacted by the energy development on the Missouri River and request tribal impacts be reflected in the valuation of overall project impacts.

Response: The DWTS is a technical, higher level planning study focused on transmission issues related to placing 500 MW of wind power in North Dakota and South Dakota; consideration of economic, market, and policy issues is outside the scope of this study.

Comment: Support wind generation zones in the draft Study Scope and request 10 MW projects at five additional locations be added to the final Study Scope.

Response: The wind generation zones were developed based on public comments, wind resource maps, the Western interconnection queue, tribal projects, and developer projects at large enough values to provide meaningful results. This study is a high-level planning study and is not intended to replace interconnection and transmission service study requirements for specific projects.

Purchase Power Issues

Comment: Will supplemental power purchases based upon drought conditions be addressed in the study?

Response: No, the study will not address supplemental power purchases. This topic is outside the scope of this process.

Comment: Request consideration of a competitive marketplace.

Response: The DWTS is a technical study focused on transmission issues related to placing 500 MW of wind power in North Dakota and South Dakota; consideration of market and policy issues is outside the scope of this study.

Comment: Is the study concerned about expanding of economic development to rural areas and the impact it could have?

Response: Evaluation of rural economic development is outside the scope of the DWTS.

Next Phase of Study Issue

Comment: Support the “Next Phase of Study” concept of a cost-sharing loan and/or grant program for partially funding transmission studies for individual, site-specific wind developers.

Response: After completing this study, Western will evaluate remaining available funds and various options for the next phase of the study; the outcome of this evaluation will be published in the Federal Register.

Comment: Recommend putting the most emphasis on Task 3. Request Western study “real projects to get real results.” Request a 50-50 cost share/grant to study individual site-specific wind projects.

Response: Western has worked hard to formulate a Study Scope which balances the many interests and views of the region's stakeholders rather than pursue site-specific studies which only benefit a limited few individuals or organizations. If there are funds remaining after the DWTS is completed, Western will evaluate the possibility of developing a cost-share loan and/or grant program for partially funding transmission studies for wind power projects connecting in the Dakotas.

Previous Studies Issues

Comment: Please summarize the results of the previous Western study.

Response: The results of the 2002 Montana-Dakotas Regional Study are available on line at http://www.wapa.gov/ugp/study/MontDakRgnl/default.htm.

General Issues

Comment: What is the logic for pursuing 500 MW of wind generation if transmission in the Dakotas is already fully committed?

Response: Study Scope Tasks 1 and 2 will examine the possibility of transmitting additional wind energy on existing transmission lines during periods of the year when the lines are not physically congested or by managing power flow with new technologies. Tasks 3 and 4 will evaluate the possibility of developing new transmission lines.

Comment: Is there a dollar amount associated with this study?

Response: A total of $750,000 was appropriated for this study.

Comment: Would it be appropriate to submit a scope of work now for the possibility of a cost-sharing study if funds are available after completion of Study Scope Tasks 1 through 4?

Response: It would be premature to submit anything for future work until the main study (Tasks 1 through 4) is completed and Western has evaluated what, if any, additional study work should be undertaken.

Comment: Is Western currently evaluating a hybrid conductor that can dissipate heat better?

Response: Yes, two short sections of composite conductor are currently being field tested on Western's transmission system in North Dakota and Arizona.

Summary of Significant Changes From the Draft Study Scope

In Study Scope Task 3 the following language was added: “A case will be run with simultaneous wind generation of at least 50 MW at all seven zones.”

Study Scope Objectives

The objectives of the DWTS include: (1) Perform transmission studies on the placement of 500 MW of wind power in North Dakota and South Dakota; (2) recognize and build upon prior related technical study work; (3) coordinate with current related technical study work; (4) solicit and incorporate public comments; and (5) produce meaningful, broadly supported results through a technically rigorous, inclusive study process.

DWTS Work Study Scope

Task 1: Analyze Non-Firm Transmission Potential Relative to New Wind Generation

The existing total transfer capability across the major paths in the Dakotas is already reserved under long-term contracts. However, the scheduled amount of capacity is often less than the total available, leaving unused capacity in many hours of the year. Wind power, as a variable, nondispatchable energy source may be able to fit in the transmission grid in these hours as an energy provider. The possibility of delivering wind energy through long-term, non-firm access, and curtailing wind power deliveries during congested periods, will be studied in this task.

The three key corridors to be studied are: (1) The North Dakota Export Boundary (a monitored regional flow gate comprised of 18 individual transmission lines in North Dakota, South Dakota, and Minnesota), (2) a 230-kilovolt (kV) transmission line, Watertown-Granite Falls, and (3) a group comprised of eight transmission lines running east and southeast from Fort Thompson and west and northwest from Fort Randall (two 230-kV transmission lines, Fort Thompson-Huron; two 230-kV transmission lines, Fort Thompson-Sioux Falls; one 345-kV transmission line, Fort Thompson-Grand Island; two 230-kV transmission lines, Fort Thompson-Fort Randall; and one 115-kV transmission line, Bonesteel-Fort Randall). The evaluation will include hourly, daily, and seasonal analysis for a minimum of 1 year for two cases: historical and projected.

Western will evaluate and compare administratively committed and actual use across each corridor using actual historical data (e.g., this type of comparison can be found in the Western Interconnection Transmission Path Flow Study, February 2003, http://www.ssg-wi.com/documents/320-2002_Report_final_pdf.pdf); and projected system data based on a full year system model (e.g., PROMOD IV) of the Integrated System and surrounding control areas.

Western will evaluate and develop power production profiles of the Dakotas wind generation using actual historical data and statistically representative wind profiles (several years of historical data normalized to several decades of climate data). Western will coordinate with the NREL to identify the representative wind power production time series and develop the wind models.

Western will evaluate and compare the time synchronized transmission use profiles and wind generation profiles over each time frame (hourly, daily, and seasonal analysis for a minimum of 1 year) for both the historical and the projected case.

Western will develop annual flow duration curves for each corridor studied, assess the opportunity to deliver non-firm wind energy, and quantify the annual hours and time period of wind energy curtailment.

Western will run additional modeling cases to bracket key sensitivities including high- and low-hydropower scenarios, demand growth scenarios, and natural gas price scenarios.

Task 2: Assess Potential of Transmission Technologies Relative to New Wind Generation

Normal power flow on the transmission system often results in less than full use of the physical transmission capacity. One or more transmission lines may be loaded up to their thermal limits while the remaining lines are loaded to levels far below their thermal capacity. In the Dakotas, stability issues can limit transfer capacity before thermal limits are reached. Technology-based solutions that can increase the use of existing network transmission lines without jeopardizing reliability are now in a mature development phase and have been applied where economically justified on various utility networks. The Flexible AC Transmission System is a set of controller devices designed to provide dynamic control of power transmission parameters such as transmission line impedance, voltage magnitude, and phase angle. Many of these technologies were identified as possible solutions to transmission constraints in the Montana-Dakotas Transmission Study. This analysis will be developed further in this task.

This task will evaluate the opportunities and costs of increasing the use of existing transmission lines and corridors in the Dakotas while maintaining safe operation of the network. Specific opportunities will be identified and quantified.

Technologies to be studied include: (1) Static var compensation to improve transmission system performance by providing the reactive power required to control dynamic voltage swings, (2) series compensation to improve stability by generating self-regulated reactive power, (3) phase-shifting transformers to improve stability and thermal loading by assisting with the control of power flow, (4) dynamic line ratings to increase transfer capacity by calculating the real time dynamic thermal rating of transmission lines based on real-time monitoring of lines and weather conditions, and (5) reconductoring to increase transfer capacity by replacing transmission line conductors with newer composite materials that can carry more current at the same or higher voltage. This evaluation will include an assessment of impacts on existing tower structures and rights-of-way.

Task 3: Study Interconnection of New Wind Generation

Seven wind generation zones will be evaluated for interconnection. They were developed from public comments, wind resource maps, the Western interconnection queue, tribal projects, and developer projects. The zones are generally located near: Garrison, North Dakota; Wishek/Ellendale/Edgeley, North Dakota; Pickert, North Dakota; Rapid City, South Dakota; Mission, South Dakota; Fort Thompson, South Dakota; Summit/Watertown/Toronto/White/Brookings/Flandreau, South Dakota.

Aggregate interconnection studies to determine the local impacts of new wind generation will be prepared for each site at four wind generation levels of 50, 150, 250, and 500 MW. A case will be run with simultaneous wind generation of at least 50 MW at all seven zones. Impacts to be studied include steady state power flow analysis, constrained interface analysis, short circuit analysis, and dynamic stability analysis.

Task 4: Study the Delivery to Market of New Wind Generation

Aggregate delivery studies will be performed on the four most favorable interconnection zones in Task 3. Several delivery scenarios will be developed for the new wind power based upon markets both inside and outside of the Dakotas.

The incremental transmission delivery capability of each zone will be identified along with the necessary transmission improvements for each level of generation. Both steady state and stability analysis will be completed and losses will be evaluated. Transmission improvement options will be ranked by technical feasibility, right-of-way impact, and cost.

Study Guidelines

All models and system data will be coordinated with and consistent with existing MAPP and MISO models and databases. Current wind turbine models will be used.

Next Phase of Study

If any appropriated funding remains after the DTWS is completed, the following concepts will be explored by Western: (1) Consider a cost-share loan and/or grant program for partially funding transmission studies of highly probable wind power projects connecting in the Dakotas; (2) updating the models developed for Tasks 3 and 4 at regular intervals to incorporate ongoing changes to the transmission system in the Dakotas; and (3) consider other options that support the language of the legislation.

Availability of Information

All studies, comments, letters, memorandums, or other documents that Western initiated or used in developing the Study Scope are available for inspection and copying at the Upper Great Plains Regional Office, located at 2900 4th Avenue North, Billings, Montana. Many of these documents and supporting information are also available on Western's Web site under the “Dakotas Wind Transmission Study” section located at: http://www.wapa.gov/ugp/study/DakotasWind.

Regulatory Procedure Requirements

Determination Under Executive Order 12866

Western has an exemption from centralized regulatory review under Executive Order 12866; so this notice requires no clearance by the Office of Management and Budget.

Small Business Regulatory Enforcement Fairness Act

Western has determined that this rule is exempt from congressional notification requirements under 5 U.S.C. 801 because the action is a rulemaking to approve or prescribe rates or services and involves matters of agency procedure.

Dated: August 26, 2004.
Michael S. Hacskaylo,
Administrator.

[FR Doc. 04-20224 Filed 9-3-04; 8:45 am]

BILLING CODE 6450-01-P